DEPARTMENT OF ENERGY

Federal Energy Regulatory Commission

[Docket No. CP19-21-000]

Columbia Gas Transmission, LLC; Notice of Request Under Blanket Authorization

Take notice that on November 27, 2018, Columbia Gas Transmission, LLC (Columbia) 700 Louisiana Street, Suite 700, Houston, Texas 77002-2700, filed in Docket No. CP19-21-000 a prior notice request pursuant to sections 157.205 and 157.213 of the Commission's regulations under the Natural Gas Act (NGA), and Columbia's blanket certificate issued in Docket No. CP83-76-000, to construct and operate its Artemas A Storage Field New Wells Project (Project). The Project consists of three new directional storage wells and related pipelines and appurtenances at Columbia's Artemas A Storage Field, located in Bedford County, Pennsylvania.

Columbia states that the Project is part of the efforts to improve storage deliverability of the Artemas A Storage Field, as part of the Modernization II Settlement that it entered with its shippers. The Artemas A Storage Field currently consists of 17 active wells and is operated with a total capacity of 14.457 billion cubic feet (Bcf) consisting of 13.70 Bcf of certificated base and working gas, and approximately 0.757 Bcf of residual native gas. Columbia asserts that the Project could provide 58 to 79 Million cubic feet per day of restored deliverability to the Columbia storage system. Columbia avers that the proposed three new wells will be drilled at three of four potential well sites that are currently under evaluation and that the selection will depend upon which combination of sites will provide the desired restored deliverability with the least risk. Columbia states that it will notify the Commission of the three well sites selected for the Project prior commencement of construction. Columbia estimates the cost of the Project to be between $25.4 million to $28.2 million, depending upon which three of the four potential well sites are selected, all as more fully set forth in the application which is on file with the Commission and open to public inspection. The filing may also be viewed on the web at http://www.ferc.gov using the eLibrary link. Enter the docket number excluding the last three digits in the docket number field to access the document. For assistance, please contact FERC Online Support at FERCOnlineSupport@ferc.gov or toll free at (866) 208-3676, or TTY, contact (202) 502-8659.

Any questions concerning this application may be directed to Linda Farquhar, Manager, Project Determinations & Regulatory Administration, Columbia Gas Transmission, LLC, 700 Louisiana Street, Suite 700, Houston, Texas, 77002-2700, by telephone at (832) 320-5685, by facsimile at (832) 320-6685, or by email at linda_farquhar@transcanada.com.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Pursuant to section 157.9 of the Commission's rules (18 CFR 157.9), within 90 days of this Notice, the Commission staff will either: complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters, will not receive copies of all documents filed by other parties or issued by the Commission (except for the mailing of environmental documents issued by the Commission) and will not have the right to seek court review of the Commission's final order.

The Commission strongly encourages electronic filings of comments, protests, and interventions in lieu of paper using the eFiling link at http://www.ferc.gov. Persons unable to file electronically should submit an original and seven copies of the protest or intervention to the Federal Energy Regulatory Commission, 888 First Street, NE, Washington, DC 20426.

Dated: December 6, 2018.
Nathaniel J. Davis, Sr.,
Deputy Secretary.

[FR Doc. 2018-26889 Filed 12-11-18; 8:45 am]

BILLING CODE 6717-01-P